DEPARTMENT OF AGRICULTURE

Forest Service

Oregon Coast Provincial Advisory Committee Meeting

AGENCY: Forest Service, USDA.

ACTION: Notice of meeting.

SUMMARY: The Oregon Coast Provincial Advisory Committee (PAC) will meet on April 27, 2000, at the Siuslaw National Forest, 4077 S.W. Research Way, Corvallis, Oregon. The meeting will begin at 9 a.m. and continue until 3:30 p.m. Agenda items to be covered include: (1) Watershed planning for Tillamook and Five Rivers EIS; (2) Joint meeting with the Willamette PAC in July; (3) Survey results for topics for future meetings; (4) Rechartering; and (5) Public comment period.

Interested citizens are encouraged to attend. The committee welcomes the public's written comments on committee business at any time.

FOR FURTHER INFORMATION CONTACT: Joni Quarnstrom, Public Affairs Specialist, Siuslaw National Forest, (541-750-7075) or write to the Forest Supervisor, Siuslaw National Forest, P.O. Box 1148, Corvallis, Oregon 97339.

Dated: March 23, 2000.
Gloria D. Brown,
Forest Supervisor.

[FR Doc. 00-8056 Filed 3-31-00; 8:45 am]

BILLING CODE 3410-11-M